DEPARTMENT OF JUSTICE

Notice of Lodging of Consent Decree Pursuant to the Clean Water Act and Clean Air Act

In accordance with 28 CFR § 50.7, 38 FR 19029, notice is hereby given that on September 5, 2002 a Consent Decree was lodged with the United States District Court for the District of Connecticut in United States v. City of Waterbury, Civil Action No. 3:02CV01569 (CFD). A complaint was also filed simultaneously with the lodging of the Consent Decree. In the complaint the United States, on behalf of the U.S. Environmental Protection Agency (EPA), alleges that the defendant City of Waterbury (“the City”) violated the Clean Water Act, 33 U.S.C. 1251, et seq., (“CWA”) in connection with the City's operation of its publicly-owned treatment works. The violations alleged in the complaint include discharges of untreated wastewater to navigable waters through point sources other than those authorized by the City's permit. The complaint also alleges certain violations of the Clean Air Act, 42 U.S.C. 7671-7671q, and the accompanying regulations in that the City crushed discarded appliances in a manner that the City knew would result in the release of refrigerants into the environment. The consent decree requires the City pay a civil penalty of $350,000 and to perform injunctive relief to achieve compliance with the Clean Water Act and the Clean Air Act.

The Department of Justice will receive comments relating to the proposed Consent Decree for a period of thirty (30) days from the date of this publication. Comments should be addressed to the Assistant Attorney General, Environment and Natural Resources Division, Department of Justice, P.O. Box 7611, Washington, DC 20044, and should refer to United States v. City of Waterbury, D.J. Ref. 90-5-2-1-2212.

The proposed consent decree may be examined at the office of the United States Attorney, 157 Church St., New Haven, Connecticut, 06510, and at the Region I office of the Environmental Protection Agency, One Congress Street, Suite 1100, Boston, Massachusetts 02114. A copy of the proposed consent decree may also be obtained by mail from the Department of Justice Consent Decree Library, P.O. Box 7611, Washington, DC 20044. In requesting a copy, please enclose a check (there is a 25 cent per page reproduction cost) in the amount of $9.25 payable to the “U.S. Treasury.”

Ronald G. Gluck,
Assistant Chief, Environmental Enforcement Section, Environment & Natural Resources Division.

[FR Doc. 02-23701 Filed 9-17-02; 8:45 am]

BILLING CODE 4410-15-M